DEPARTMENT OF COMMERCE

Submission for OMB Review; Comment Request

The Department of Commerce will submit to the Office of Management and Budget (OMB) for clearance the following proposal for collection of information under the provisions of the Paperwork Reduction Act.

Agency: U.S. Census Bureau.

Title: Annual Retail Trade Survey.

OMB Control Number: 0607-0013.

Form Number(s): SA-44, SA-44A, SA-44C, SA-44D, SA-44E, SA-44N, SA-44S, SA-44T.

Type of Request: Revision of a currently approved collection.

Number of Respondents: 20,067.

Average Hours per Response: Because of the inclusion of the detailed operating expenses questions in the 2017 survey year ARTS (collected in 2018), the average burden per respondent for that year will be 3 hours and 19 minutes. In survey years 2018 and 2019, the average burden will be 37 minutes.

Burden Hours: 30,531.

Needs and Uses: The Annual Retail Trade Survey (ARTS) covers employer firms with establishments located in the United States and classified in retail trade sector as defined by the North American Industry Classification System (NAICS). The survey requests firms to provide annual sales, sales tax, e-commerce sales, year-end inventories held inside and outside the United States, total operating expenses, purchases, and accounts receivable. We also request, for selected industries, sales and e-commerce sales by merchandise line.

The data collected in the ARTS provide a current statistical picture of the retail portion of consumer activity. These data are collected to provide a sound statistical basis for the formation of policy by various government agencies, as well as to serve as a benchmark for the estimates compiled from the Monthly Retail Trade Survey. Results will be made available, at the United States summary level, for selected retail trade industries approximately fifteen months after the end of the reference year.

Every 5 years, ARTS requests data on detailed operating expenses. During the 2017 collection survey year that will occur in 2018, ARTS will collect detailed operating expenses. The last time ARTS collected detailed operating expenses was in 2013 for the 2012 survey year. Estimates are published based on the NAICS, which has been widely adopted throughout both the public and private sectors.

This request is for the clearance of eight electronic report worksheets, the SA-44, SA-44A, SA-44C, SA-44D, SA-44E, SA-44N, SA-44S, and SA-44T. These eight electronic worksheets enable us to collect information on a NAICS basis and to request similar data items. Variations in the electronic worksheets are needed to address the size of the firm, kind-of-business, or data items requested.

The Bureau of Economic Analysis (BEA) uses the data to estimate the change in private inventories component of gross domestic product (GDP) and output in both the benchmark and annual input-output (I-O) accounts and GDP by industry. Data on sales taxes are also used to prepare estimates of GDP by industry and to derive industry output for the I-O accounts. Data on detailed operating expenses, are collected on this survey quinquennially and are used to produce national estimates of value added, gross output, and intermediate inputs and serve as a benchmark for the annual industry accounts, which provide the control totals for the GDP-by-state accounts.

The Bureau of Labor Statistics uses the data as input to its Producer Price Indexes and in developing productivity measurements. The Federal Reserve Board uses the accounts receivables balances to measure consumer credit. Private businesses use the estimates in computing business activity indexes.

Other government agencies and businesses use the data to satisfy a variety of public and business needs such as economic market analysis, company performance, and forecasting future demands.

Affected Public: Business or other for-profit.

Frequency: Annually.

Respondent's Obligation: Mandatory.

Legal Authority: Title 13, United States Code, Section 131 and 182.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental PRA Lead, Office of the Chief Information Officer.

[FR Doc. 2017-26076 Filed 12-1-17; 8:45 am]

BILLING CODE 3510-07-P